DEPARTMENT OF ENERGY

International Energy Agency Meetings

AGENCY: Department of Energy.

ACTION: Notice of meetings.

SUMMARY: The Industry Advisory Board (IAB) to the International Energy Agency (IEA) will meet on September 13, 2017, at the Conference Centre of the French Ministry of Foreign Affairs, 27, Rue de la Convention, 75015 Paris, France, in connection with a joint meeting of the IEA's Standing Group on Emergency Questions (SEQ) and the IEA's Standing Group on the Oil Market (SOM) on September 14, 2017, in connection with a meeting of the SEQ on that day.

DATES: September 13, 14, 2017.

ADDRESSES: 27, Rue de la Convention, 75015 Paris, France.

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the Centre de Conférence Ministériel of the French Ministry of Foreign Affairs Building, 27 Rue de la Convention, 75015 Paris, France, commencing at 9:30 a.m. on September 13, 2017. The purpose of this notice is to permit attendance by representatives of U.S. company members of the IAB at a meeting of the IEA's Standing Group on Emergency Questions (SEQ), which is scheduled to be held at the same location and time. The IAB will also hold a preparatory meeting among company representatives at the same location at 8:30 a.m. on September 13. The agenda for this preparatory meeting is to review the agenda for the SEQ meeting.

The agenda of the SEQ meeting is under the control of the SEQ. It is expected that the SEQ will adopt the following agenda:

Draft Agenda of the 152nd Meeting of the SEQ to be held at the Centre de Conférence Ministériel of the French Ministry of Foreign Affairs Building, 27 Rue de la Convention, 75015 Paris, France, 13 September 2017, beginning at 9:30 a.m.

Closed SEQ Session—IEA Member Countries Only

1. Adoption of the Agenda

2. Approval of the Summary Record of the 151st Meeting

3. Status of Compliance with IEP Agreement Stockholding Obligations

4. Preparations for the IEA Ministerial

5. Stockholding Methodology Issues

Open SEQ Session—Open to Association Countries

6. Update on Study into Legal Systems of Emergency Policy

7. Proposal for Update of 2013 Cost-benefit of Stockholding Study

8. Industry Advisory Board Update

9. Mid-term Review of Indonesia

10. Proposal for Energy Security Study for ASEAN +6

11. Update on Preparations for ERE9

12. Mid-term Review of the United Kingdom

13. Outreach

—Recent APERC meeting

—Recent JOGMEC training for China

—Overview of recent activities

14. Update on Cyber Security & Digitalization

15. Mid-term Review of Portugal

16. Oral Reports by Administrations

17. Other Business

—ERR Programme

Schedule of SEQ & SOM Meetings

—20-22 March 2018

—19-21 June 2018 (TBC)

— 27-29 November 2018

A meeting of the Industry Advisory Board (IAB) to the International Energy Agency (IEA) will be held at the Conference Centre of the French Ministry of Foreign Affairs, 27 Rue de la Convention, 75015 Paris, France, commencing at 10:00 on September 14, 2017. The purpose of this notice is to permit attendance by representatives of U.S. company members of the IAB at a joint meeting of the IEA's Standing Group on Emergency Questions (SEQ) and the IEA's Standing Group on the Oil Market (SOM), which is scheduled to be held at the same location and time.

The agenda of the meeting is under the control of the SEQ and the SOM. It is expected that the SEQ and the SOM will adopt the following agenda:

Draft Agenda of the Joint Session of the SEQ and the SOM to be held at the Conference Centre of the French Ministry of Foreign Affairs, 27 Rue de la Convention, 75015 Paris, France, 14 September 2017, beginning at 10:00.

Start Meeting/Introduction

18. Adoption of the Agenda

19. Approval of Summary Record of 15 June 2017

20. Reports on Recent Oil Market and Policy Developments in IEA Countries

21. Update on the Current Oil Market Situation followed by Q&A

22. Presentation: “Recent Trends in Oil Demand” followed by Q&A

—Oral report by the Secretariat

23. Presentation followed by Q&A

— Oral report by the Secretariat

24. Presentation: “European Refining” followed by Q&A

— External speaker (KBC)

25. Presentation followed by Q&A

—External speaker (BP)

26. Presentation followed by Q&A

— External speaker

27. Presentation: “Global Investment Report” followed by Q&A

— Oral report by the Secretariat

28. Other Business

—Tentative schedule of SEQ and SOM meetings on: 20-22 March 2018

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, September 1, 2017.
Thomas Reilly,
Assistant General Counsel for International and National Security Programs.

[FR Doc. 2017-19052 Filed 9-7-17; 8:45 am]

BILLING CODE 6450-01-P